DEPARTMENT OF AGRICULTURE

Animal and Plant Health Inspection Service

7 CFR Part 354

[Docket No. 02-085-1]

AQI User Fees: Extension of Current Fees Beyond Fiscal Year 2002

AGENCY: Animal and Plant Health Inspection Service, USDA.

ACTION: Interim rule and request for comments.

SUMMARY: We are amending the user fee regulations to ensure that fiscal year 2002 user fee rates remain in effect beyond fiscal year 2002 until the fees are revised. In a final rule published in the Federal Register on November 16, 1999, we amended the regulations by adjusting the fees charged for certain agricultural quarantine and inspection services we provide in connection with certain commercial vessels, commercial trucks, commercial railroad cars, commercial aircraft, and international airline passengers arriving at ports in the customs territory of the United States. We should have stated that the fees for fiscal year 2002 would remain in effect until changed by further rulemaking; instead, we indicated that the fees would remain in effect through September 30, 2002. This interim rule will extend existing user fee rates and continue to allow the collection of the fees beyond that date.

DATES: This interim rule is effective September 3, 2002. We will consider all comments that we receive on or before November 4, 2002.

ADDRESSES: You may submit comments by postal mail/commercial delivery or by e-mail. If you use postal mail/commercial delivery, please send four copies of your comment (an original and three copies) to: Docket No. 02-085-1, Regulatory Analysis and Development, PPD, APHIS, Station 3C71, 4700 River Road Unit 118, Riverdale, MD 20737-1238. Please state that your comment refers to Docket No. 02-085-1. If you use e-mail, address your comment to regulations@aphis.usda.gov. Your comment must be contained in the body of your message; do not send attached files. Please include your name and address in your message and “Docket No. 02-085-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information concerning program operations, contact Mr. Jim Smith, Assistant Director, Port Operations, Plant Health Programs, PPQ, APHIS, 4700 River Road Unit 60, Riverdale, MD 20737-1236; (301) 734-8295. For information concerning rate development, contact Ms. Donna Ford, PPQ User Fees Section Head, FMD, MRPBS, APHIS, 4700 River Road Unit 54, Riverdale, MD 20737-1232, (301) 734-5901.

SUPPLEMENTARY INFORMATION:

Background

Section 2509(a) of the Food, Agriculture, Conservation, and Trade Act of 1990 (21 U.S.C. 136a), referred to below as the FACT Act, authorizes the Animal and Plant Health Inspection Service (APHIS) to collect user fees for agricultural quarantine and inspection (AQI) services. The FACT Act was amended by section 917 of the Federal Agricultural Improvement and Reform Act of 1996 (Pub. L. 104-127), on April 4, 1996.

The FACT Act, as amended, authorizes APHIS to collect user fees for providing AQI services in connection with the arrival at a port in the customs territory of the United States, or the preclearance or preinspection at a site outside the customs territory of the United States, of:

• Commercial vessels,

• Commercial trucks,

• Commercial railroad cars,

• Commercial aircraft, and

• International airline passengers.

According to the FACT Act, as amended, these user fees should recover the costs of:

• Providing the AQI services listed above,

• Administering the user fee program, and

• Until September 30, 2002, maintaining a reasonable balance in the Agricultural Quarantine Inspection User Fee Account (AQI account).

On November 16, 1999, we published in the Federal Register (64 FR 62089-62096, Docket No. 98-073-2) a final rule amending the user fee regulations in § 354.3 by adjusting the fees charged for certain AQI services we provide in connection with certain commercial vessels, commercial trucks, commercial railroad cars, commercial aircraft, and international airline passengers arriving at ports in the customs territory of the United States. We should have stated that the fees for fiscal year (FY) 2002 would remain in effect until changed by further rulemaking; instead, we indicated that the fees would remain in effect through September 30, 2002. In order to recover our costs for providing AQI services after that date, we need to continue to collect user fees.

Therefore, we are amending the AQI user fee regulations in § 354.3 to ensure that FY 2002 user fee rates remain in effect beyond FY 2002 until the fees are revised. This interim rule will extend existing user fee rates and continue to allow the collection of the fees beyond September 30, 2002. Collection of these fees is necessary for the continuance of specific border inspection activities that are essential to protect U.S. agriculture from plant and animal disease and pest threats.

Immediate Action

Immediate action is necessary to continue to allow the collection of AQI user fees beyond September 30, 2002. Under these circumstances, the Administrator has determined that prior notice and opportunity for public comment are contrary to the public interest and that there is good cause under 5 U.S.C. 553 for making this action effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. The rule has been determined to be not significant for the purposes of Executive Order 12866 and, therefore, has not been reviewed by the Office of Management and Budget.

This interim rule amends the AQI user fee regulations to ensure that current fees remain in effect until adjusted through further rulemaking.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 7 CFR Part 354

Exports, Government employees, Imports, Plant diseases and pests, Quarantine, Reporting and recordkeeping requirements, Travel and transportation expenses.

Accordingly, 7 CFR part 354 is amended as follows:

PART 354—OVERTIME SERVICES RELATING TO IMPORTS AND EXPORTS; AND USER FEES

1. The authority citation for part 354 is revised to read as follows:

Authority: 7 U.S.C. 2260; 21 U.S.C. 136 and 136a; 49 U.S.C. 80503; 7 CFR 2.22, 2.80, and 371.3.

2. Section 354.3 is amended by revising the tables in paragraphs (b)(1), (c)(1), (d)(1), (e)(1), and (f)(1) to read as follows:

§ 354.3 User fees for certain international services.

* * * * *

(b) * * *

(1) * * *

Effective dates | Amount
January 1, 2000 through September 30, 2000 | 465.50
October 1, 2000 through September 30, 2001 | 474.50
October 1, 2001 | 480.50

* * * * *

(c) * * *

(1) * * *

Effective dates | Amount
January 1, 2000 through September 30, 2000 | 4.25
October 1, 2000 through September 30, 2001 | 4.50
October 1, 2001 | 4.75

* * * * *

(d) * * *

(1) * * *

Effective dates | Amount
January 1, 2000 through September 30, 2000 | 6.75
October 1, 2000 through September 30, 2001 | 7.00
October 1, 2001 | 7.00

* * * * *

(e) * * *

(1) * * *

Effective dates | Amount
January 1, 2000 through September 30, 2000 | 64.00
October 1, 2000 through September 30, 2001 | 64.75
October 1, 2001 | 65.25

* * * * *

(f) * * *

(1) * * *

Effective dates ¹ | Amount
January 1, 2000 through September 30, 2000 | 3.00
October 1, 2000 through September 30, 2001 | 3.00
October 1, 2001 | 3.10
¹ Persons who issue international airline tickets or travel documents are responsible for collecting the APHIS international airline passenger user fee from ticket purchasers. Issuers must collect the fee applicable at the time tickets are sold. In the event that ticket sellers do not collect the APHIS user fee when tickets are sold, the air carrier must collect the user fee from the passenger upon departure. Carriers must collect the fee applicable at the time of departure from the traveler.

* * * * *

Done in Washington, DC, this 27th day of August, 2002.
Richard L. Dunkle,
Acting Administrator, Animal and Plant Health Inspection Service.

[FR Doc. 02-22313 Filed 8-30-02; 8:45 am]

BILLING CODE 3410-34-P